DEPARTMENT OF TRANSPORTATION

Federal Aviation Administration

14 CFR Part 39

[Docket No. FAA-2013-0422; Directorate Identifier 2012-NM-097-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200 and -300 series airplanes; Model A340-200 and -300 series airplanes; and Model A340-541 and -642 airplanes. This proposed AD was prompted by reports of wing tip brakes (WTBs) losing their braking function in service due to heavy wear on the brake discs. WTBs are designed to stop and hold the mechanical transmission of slats and flaps in certain failure cases. This proposed AD would require repetitive operational tests of certain WTB pressure-off-brakes (POBs) for performance on the flap and slat systems, and replacement of any affected WTB with a new or serviceable part if the test fails. This proposed AD would also require eventual replacement of all affected WTBs with a new part, which would terminate the repetitive tests. We are proposing this AD to prevent loss of the WTB braking function, and consequent inability of the flap or slat system to be stopped and held in position during operation, which could result in loss of control of the airplane.

DATES: We must receive comments on this proposed AD by July 5, 2013.

ADDRESSES: You may send comments by any of the following methods:

• Federal eRulemaking Portal: Go to http://www.regulations.gov. Follow the Accomplishment Instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2013-0422; Directorate Identifier 2012-NM-097-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0082, dated May 15, 2012 (referred to after this as the Mandatory Continuing Airworthiness Information, or “the MCAI”), to correct an unsafe condition for the specified products. The MCAI states:

Several wing tip brakes (WTB) have lost their braking function in service. Inspection by the manufacturer of these units revealed that the drive shaft was found free to rotate and the braking discs worn. Investigations are still on-going to determine the exact root cause.

The WTB is a Pressure-Off-Brake (POB) with a multi-plate friction device operated by a spring pack. In operation, the brakes are released by dual hydraulic pistons controlled by electro-hydraulic solenoid valves, energized by the Slat Flap Control Computers (SFCC). The purpose of the WTBs (4 per aeroplane) is to stop and hold the mechanical transmission in position in some specific failure cases. In such cases, the SFCCs de-energize their WTB solenoids, which remove the hydraulic pressure and lead to the application of the brakes.

This condition, if not detected and corrected, could, in some specific failure cases, result in loss of control of the aeroplane.

For the reasons described above, EASA issued AD 2010-0267 to require a one-time Operational Test of the WTB/POB performance on the flap and slat systems to detect any dormant failure and, depending on findings, applicable corrective actions. This AD also required the reporting of findings, including none, to the TC holder.

Since issuance of EASA AD 2010-0267, additional occurrences have been reported. The results of the investigations revealed that WTB fitted with brake plates manufactured by JURID (Part Number (P/N) 1007A0000-03, P/N 1007A0000-04, or P/N 1007A0000-05) are more sensitive to wear than those manufactured by MIBA (P/N 1007A0000-06 or P/N 1007B0000-01).

For the reason described above, this AD retains the requirements of EASA AD 2010-0267, which is superseded, and requires:

• a repetitive Operational Test of the WTB/POB performance on the flap and slat systems, and

• embodiment of the terminating action which consists in the installation of WTB standard build on brake plates manufactured by MIBA.

You may obtain further information by examining the MCAI in the AD docket.

Relevant Service Information

Airbus has issued Alert Operators Transmission A27L001-12, Revision 01, dated April 27, 2012.

The actions described in the service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 65 products of U.S. registry. We also estimate that it would take about 2 work-hours per product to comply with the basic requirements of this proposed AD. The average labor rate is $85 per work-hour. Based on these figures, we estimate the cost of the proposed AD on U.S. operators to be $11,050, or $170 per product.

In addition, we estimate that any necessary follow-on actions would take about 4 work-hours and require parts costing $9,987 (per unit—four units per airplane), for a cost of $10,327 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2013-0422; Directorate Identifier 2012-NM-097-AD.

(a) Comments Due Date

We must receive comments by July 5, 2013.

(b) Affected ADs

None.

(c) Applicability

This AD applies to Airbus Model A330-201, -202, -203, -223, -243, -223F, -243F, -301, -302, -303, -321, -322, -323, -341, -342, and -343 airplanes; Model A340-211, -212, -213, -311, -312, and -313 airplanes; and Model A340-541 and Model A340-642 airplanes; certificated in any category; all manufacturer serial numbers.

(d) Subject

Air Transport Association (ATA) of America Code 27, Flight controls.

(e) Reason

This AD was prompted by reports of wing tip brakes (WTBs) losing their braking function in service due to heavy wear on the brake discs. We are issuing this AD to detect and correct failure of the WTB and consequent loss of control of the airplane.

(f) Compliance

You are responsible for having the actions required by this AD performed within the compliance times specified, unless the actions have already been done.

(g) Part Number Determination

Within 30 days after the effective date of this AD: Inspect to determine the part number (P/N) of the four WTBs of the flap and slat systems, in accordance with the Instructions of Airbus Alert Operators Transmission (AOT) A27L001-12, Revision 01, dated April 27, 2012. A review of the Airbus airplane inspection report (AIR) or airplane maintenance records is acceptable to identify the part number of the WTB installed, provided that part number can be conclusively determined from that review.

(h) Repetitive Operational Tests

For any WTB having P/N 1007A0000-03, P/N 1007A0000-04, or P/N 1007A0000-05, as determined by paragraph (g) of this AD: At the later of the times specified in paragraphs (h)(1) and (h)(2) of this AD, and thereafter at intervals not to exceed 1,000 flight hours, perform an operational test of the WTB on the affected flap and/or slat systems in accordance with the Instructions of Airbus AOT A27L001-12, Revision 01, dated April 27, 2012.

(1) Within 1,000 flight hours since the last accomplishment of A330/A340 Maintenance Review Board Report (MRBR) tasks 27.50.00/14 and 27.80.00/10, or since first flight of the airplane, whichever occurs later.

(2) Within 30 days after the effective date of this AD.

(i) Replacement of WTBs That Fail the Operational Test

If any WTB operational test fails, before further flight, replace the affected WTB with a serviceable WTB, in accordance with the Instructions of Airbus AOT A27L001-12, Revision 01, dated April 27, 2012. Installation of a WTB having P/N 1007A0000-03, P/N 1007A0000-04, or P/N 1007A0000-05, does not constitute terminating action for the repetitive tests required by paragraph (h) of this AD.

(j) Replacement of WTBs

Within 26 months after the effective date of this AD, replace each WTB having P/N 1007A0000-03, P/N 1007A0000-04, or P/N 1007A0000-05 with a WTB having P/N 1007A0000-06, in accordance with the Instructions of Airbus AOT A27L001-12, Revision 01, dated April 27, 2012. Accomplishing the replacement required by this paragraph constitutes terminating action for the repetitive operational tests required by paragraph (h) of this AD.

(k) Optional Installation

As an alternative to accomplishing the replacement required by paragraph (j) of this AD, installation of a WTB having P/N 1007B0000-01, in accordance with the Instructions of Airbus AOT A27L001-12, Revision 01, dated April 27, 2012, is acceptable for compliance with the requirements of paragraph (j) of this AD and constitutes terminating action for the repetitive operational tests required by paragraph (h) of this AD.

(l) Parts Installation Prohibition and Limitation

(1) For airplanes on which Airbus Modification 43512 has been embodied in production: As of the effective date of this AD, installing a WTB having P/N 1007A0000-03, P/N 1007A0000-04, or P/N 1007A0000-05 is not allowed.

(2) For airplanes on which Airbus Modification 43512 has not been embodied in production: Installing a WTB having P/N 1007A0000-03, P/N 1007A0000-04, or P/N 1007A0000-05 is allowed; provided that after its installation the operational test is performed before further flight, and passed successfully, in accordance with the Instructions of Airbus AOT A27L001-12, Revision 01, dated April 27, 2012.

(m) Credit for Previous Actions

This paragraph provides credit for actions required by paragraphs (g), (h), (i), (j), and (k) of this AD, if those actions were performed before the effective date of this AD using Airbus AOT A27L001-12, dated April 26, 2012, which is not incorporated by reference in this AD.

(n) Reporting to Airbus

Submit a report of the initial identification of the part numbers of the WTBs required by paragraph (g) of this AD, and a report of the findings of each operational test required by paragraph (h) of this AD (both positive and negative), to Airbus, Customer Services, Engineering and Technical Support, 1 Rond Point Maurice Bellonte, 31707 Blagnac Cedex France, Attn: Daniel Lopez-Fernandez, SEEL6; fax: (+33) 5 61 93 04 52; email: daniel.lopez-fernandez@airbus.com; at the applicable time specified in paragraph (n)(1) or (n)(2) of this AD.

(1) If the action was done on or after the effective date of this AD: Submit the report within 90 days after accomplishing the action.

(2) If the action was done before the effective date of this AD: Submit the report within 90 days after the effective date of this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing Instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Related Information

(1) Refer to Mandatory Continuing Airworthiness Information, European Aviation Safety Agency Airworthiness Directive 2012-0082, dated May 15, 2012; and Airbus Alert Operators Transmission A27L001-12, Revision 01, dated April 27, 2012, for related information.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

Issued In Renton, Washington, on May 13, 2013.
Ali Bahrami,
Manager, Transport Airplane Directorate, Aircraft Certification Service.

[FR Doc. 2013-12076 Filed 5-20-13; 8:45 am]

BILLING CODE 4910-13-P